DEPARTMENT OF LABOR

Employment and Training Administration

[TA-W-50,878]

Cannondale Corporation Bicycle Plant Now Known as Cannondale Bicycle Corporation, Bedford, PA; Amended Certification Regarding Eligibility To Apply for Worker Adjustment Assistance

In accordance with Section 223 of the Trade Act of 1974 (19 U.S.C. 2273) the Department of Labor issued Amended Certification Regarding Eligibility To Apply for Worker Adjustment Assistance on April 25, 2003, applicable to workers of the Cannondale Corporation, Bicycle Plant, Bedford, Pennsylvania. The notice was published in the Federal Register on May 9, 2003 (68 FR 25060).

At the request of the State agency, the Department reviewed the certification for workers of the subject firm. The workers are engaged in the production of bicycles, clothing and accessories.

New information shows that Cannondale Corporation, Bicycle Plant became known as Cannondale Bicycle Corporation in May 2003, following bankruptcy in early 2003. Workers separated from employment as the subject firm had their wages reported under a separated unemployment insurance (UI) tax account for Cannondale Bicycle Corporation.

Accordingly, the Department is amending this certification to properly reflect this matter.

The intent of the Department's certification is to include all workers of Cannondale Corporation, Bicycle Plant who were adversely affected by increased imports.

The amended notice applicable to TA-W-50,878 is hereby issued as follows:

All workers of Cannondale Corporation, Bicycle Plant, now known as Cannondale Bicycle Corporation, Bedford, Pennsylvania, who became totally or partially separated from employment on or after February 10, 2002, through April 25, 2005, are eligible to apply for adjustment assistance under Section 223 of the Trade Act of 1974.

Signed at Washington, DC, this 21st day of August 2003.
Elliott S. Kushner,
Certifying Officer, Division of Trade Adjustment Assistance.

[FR Doc. 03-22999 Filed 9-9-03; 8:45 am]

BILLING CODE 4510-30-P